DEPARTMENT OF ENERGY

Federal Energy Regulatory Commission

[Docket No. PR01-2-000]

The Peoples Gas Light and Coke Company; Notice of Application for Rate Approval

November 24, 2000.

Take notice that on November 9, 2000, The Peoples Gas Light and Coke Company (Peoples Gas), 130 East Randolph Drive, Chicago, Illinois 60601, filed pursuant to Section 284.123 of the Commission's Regulations under the Natural Gas Act (18 CFR 284.123) a petition for rate approval in Docket No. PR01-2-000 requesting that the Commission approve fair and equitable rates for the transportation, storage and parking and loaning services to be provided pursuant to Peoples Gas' blanket authority, all as more fully set forth in the application that is on file with the Commission and open to public inspection.

Peoples Gas states that it is an intrastate gas distribution company serving retail customers in the City of Chicago, Illinois. Peoples Gas states that it is a public utility under the Public Utilities Act of Illinois and is subject to the jurisdiction of the Illinois Commerce Commission. Peoples Gas states that is received a Hinshaw blanket certificate and approval for firm and interruptible transportation services and rates from the Commission in March 1998.

Peoples Gas proposes to continue to offer, pursuant to the blanket certificate, firm and interruptible transportation services, firm and interruptible storage services and a parking and loaning service. Peoples Gas proposes, for the firm transportation service, a cost-based maximum monthly reservation charge of $1.9275 per MMBtu of maximum daily quantity. The minimum charge is zero. For the interruptible transportation service, Peoples Gas proposes a maximum commodity charge, based on a 100% load factor derivation of the firm storage rate, of $0.0634 per MMBtu and a minimum charge of zero. Peoples Gas proposes, for the firm storage service, a cost-based maximum monthly reservation rate of $1.4861 per MMBtu of maximum daily withdrawal quantity with a minimum charge of zero; a maximum monthly capacity charge of $0.0594 per MMBtu of maximum storage quantity with a minimum charge of zero; and a $0.0555 commodity charge per MMBtu of gas injected on any day with a minimum commodity charge of $0.0002 per MMBtu. For the interruptible storage service, Peoples Gas proposes a maximum commodity charge, based on a 100% load factor derivation of the firm storage rate, of $0.0511 per MMBtu of inventory on any day and a minimum charge of $0.0002 per MMBtu of inventory. For the parking and loaning service, which includes embedded transportation, the maximum rate, based on storage and transportation costs, would be $0.1144 per MMBtu of inventory on any day and the minimum rate would be $0.0002 per MMBtu of inventory on any day. These proposed maximum rates would be subject to discounting.

Peoples Gas proposes an effective date of December 1, 2000.

Pursuant to Section 284.123(b)(2)(ii), if the Commission does not act within 150 days of the filing date, the rates will be deemed to be fair and equitable and not in excess of an amount that interstate pipelines would be permitted to charge for similar services. The Commission may, prior to the expiration of the 150-day period, extend the time for action or institute a proceeding.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before December 7, 2000. This petition for rate approval is on file with the Commission and is available for public inspection. This filing may be viewed on the web at http://www.ferc.fed.us/online/rims.htm (call 202-208-2222 for assistance). Comments and protests may be filed electronically via the internet in lieu of paper. See, 18 CFR 385.200(a)(1)(iii) and the instruction on the Commission's web site at http://www.ferc.fed.us.efi/doorbell.htm.

Linwood A. Watson, Jr.,
Acting Secretary.

[FR Doc. 00-30490 Filed 11-29-00; 8:45 am]

BILLING CODE 6717-01-M